DEPARTMENT OF HEALTH AND HUMAN SERVICES

Food and Drug Administration

[Docket No. FDA-2018-N-3305]

Allergenic Products Advisory Committee; Cancellation

AGENCY: Food and Drug Administration, HHS.

ACTION: Notice.

SUMMARY: The meeting of the Allergenic Products Advisory Committee scheduled for November 7, 2018, is cancelled. This meeting was announced in the Federal Register of September 26, 2018.

FOR FURTHER INFORMATION CONTACT: Serina Hunter-Thomas, Center for Biologics Evaluation and Research, Food and Drug Administration, 10903 New Hampshire Ave., Bldg. 71, Rm. 6338, Silver Spring, MD 20993-0002, 240-402-5771, serina.hunter-thomas@fda.hhs.gov, or FDA Advisory Committee Information Line, 1-800-741-8138 (301-443-0572 in the Washington, DC area), and follow the prompts to the desired center or product area. Please call the Information Line for up-to-date information on this meeting.

Dated: October 16, 2018.
Leslie Kux,
Associate Commissioner for Policy.

[FR Doc. 2018-22942 Filed 10-19-18; 8:45 am]

BILLING CODE 4164-01-P